DEPARTMENT OF COMMERCE

National Oceanic and Atmospheric Administration

[I.D. 100903C]

Pacific Fishery Management Council; Public Meeting

AGENCY: National Marine Fisheries Service (NMFS), National Oceanic and Atmospheric Administration (NOAA), Commerce.

ACTION: Notice of public meetings.

SUMMARY: The Pacific Fishery Management Council (Council) and its advisory bodies will hold public meetings.

DATES: The Council and its advisory bodies will meet November 2-7, 2003. The Council meeting will begin on Monday, November 3, at 3:30 p.m., reconvening each day through Friday. All meetings are open to the public, except a closed session will be held at 3:30 p.m. on Monday, November 3 to address litigation and personnel matters. The Council will meet as late as necessary each day to complete its scheduled business.

ADDRESSES: The meetings will be held at the Hilton San Diego Del Mar, 15575 Jimmy Duranto Blvd., Del Mar, CA 92014; telephone: (858) 792-5200.

Council address: Pacific Fishery Management Council, 7700 NE Ambassador Place, Suite 200, Portland, OR 97220.

FOR FURTHER INFORMATION CONTACT: Dr. Donald O. McIsaac, Executive Director; telephone: (503) 820-2280 or (866) 806-7204.

SUPPLEMENTARY INFORMATION: The following items are on the Council agenda, but not necessarily in this order. All items listed are subject to potential Council action.

A. Call to Order

1. Opening Remarks, Introductions

2. Roll Call

3. Executive Director's Report

4. Approve Agenda

B. Marine Protected Areas

1. Jurisdiction and Authority Issues for Marine Protected Areas

2. Update on West Coast Marine Protected Areas Issues

C. Habitat

Current Habitat Issues

D. Groundfish Management

1. NMFS Report on Groundfish Management

2. Makah Rockfish Enhancement Proposal

3. Feasibility of Using Real-time Electronic Logbook Data in Groundfish Fishery Management

4. Observer Data Flow for Fishery Years 2004-06

5. Status of Groundfish Fisheries and Inseason Adjustments

6. Cabezon and Lingcod Stock Assessments and Lingcod Rebuilding Analysis for 2005-06

7. Update on RecFin Data Improvements

8. Preliminary Optimum Yield (OY), Acceptable Biological Catch (ABC), Management Measures, and Preseason Management Schedule (November-June) for 2005-06 Fisheries

9. Planning of “Off-year” Non-regulatory Science Activities (e.g., Stock Assessment Models, B0 and BMSY Workshops)

10. Vessel Monitoring System (VMS): Transiting Requirements for Fixed-Gear Limited Entry Vessels and Expansion of the Program

11. Groundfish Bycatch Program Environmental Impact Statement

12. Development of Groundfish Trawl Individual Quotas (IQ) and Control Date

13. Final Approval of Exempted Fishing Permits (EFPs) for 2004

14. Groundfish Fishery Management Plan Amendment 16-3: Rebuilding Plans for Bocaccio, Cowcod, and Widow and Yelloweye Rockfish

15. Open Access Limitation Discussion and Planning

E. Salmon Management

1. Salmon Fishery Update

2. Inseason Consideration of Scheduled 2004 Commercial and Recreational Openings South of Cape Falcon

3. Preseason Planning for 2004 Management

4. Salmon Methodology Review

F. Pacific Halibut Management

1. Status of 2003 Pacific Halibut Fisheries

2. Proposed Changes to the Catch Sharing Plan and Annual Regulations

G. Highly Migratory Species Management

1. NMFS Report on Highly Migratory Species Management

2. Fishery Management Plan (FMP) Amendment Update: High Seas Longline Limited Entry and Other Issues

H. Coastal Pelagic Species Management

1. NMFS Report

2. Pacific Sardine Stock Assessment and Harvest Guideline for 2004

I. Administrative and Other Matters

1. Legislative Matters

2. Fiscal Matters

3. Appointments to Advisory Bodies, Standing Committees, and Other Forums for the 2004-06 Term

4. Staff Work Load Priorities and Draft March 2004 Council Meeting Agenda

SCHEDULE OF ANCILLARY MEETINGS
SUNDAY, November 2, 2003 |
Scoping Sessions: |
Groundfish Management Specifications for 2005-2006 | 1 p.m.
Groundfish Fishery Management Plan Amendment 16-3 | 3 p.m.
MONDAY, November 3, 2003 |
Council Secretariat | 8 a.m.
Groundfish Advisory Subpanel | 8 a.m.
Groundfish Management Team | 8 a.m.
Scientific and Statistical Committee | 8 a.m.
Joint Sessions: | 8:30-12 p.m.
1. Cabezon and Lingcod Stock Assessments |
2. Real-time Electronic Logbook Presentation |
3. Makah Rockfish Enhancement Proposal Habitat Committee | 10 a.m.
Legislative Committee | 11 a.m.
Budget Committee | 1 p.m.
TUESDAY, November 4, 2003 |
Council Secretariat | 7 a.m.
California State Delegation | 7 a.m.
Oregon State Delegation | 7 a.m.
Washington State Delegation | 7 a.m.
Groundfish Advisory Subpanel | 8 a.m.
Groundfish Management Team | 8 a.m.
Highly Migratory Species Advisory Subpanel | 8 a.m.
Scientific and Statistical Committee | 8 a.m.
Enforcement Consultants | Immediately following Council Session
WEDNESDAY, November 5, 2003 |
Council Secretariat | 7 a.m.
California State Delegation | 7 a.m.
Oregon State Delegation | 7 a.m.
Washington State Delegation | 7 a.m.
Groundfish Advisory Subpanel | 8 a.m.
Groundfish Management Team | 8 a.m.
Enforcement Consultants | As necessary
THURSDAY, November 6, 2003 |
Council Secretariat | 7 a.m.
California State Delegation | 7 a.m.
Oregon State Delegation | 7 a.m.
Washington State Delegation | 7 a.m.
Groundfish Advisory Subpanel | 8 a.m.
Groundfish Management Team | 8 a.m.
Enforcement Consultants | As necessary
FRIDAY, November 7, 2003 |
Council Secretariat | 7 a.m.
California State Delegation | 7 a.m.
Oregon State Delegation | 7 a.m.
Washington State Delegation | 7 a.m.
Groundfish Advisory Subpanel | 8 a.m.
Groundfish Management Team | 8 a.m.
Enforcement Consultants | As necessary

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 820-2280 or (866) 806-7204 at least 5 days prior to the meeting date.

Dated: October 9, 2003.
Richard W. Surdi,
Acting Director, Office of Sustainable Fisheries, National Marine Fisheries Service.

[FR Doc. 03-26197 Filed 10-15-03; 8:45 am]

BILLING CODE 3510-22-S